DEPARTMENT OF THE INTERIOR

Bureau of Land Management

[PO4820000251]

Notice of Availability of the Record of Decision and Approved Resource Management Plan for the Cascade-Siskiyou National Monument in Oregon/Washington and California

AGENCY: Bureau of Land Management.

ACTION: Notice of availability.

SUMMARY: The Bureau of Land Management (BLM) announces the availability of the Record of Decision (ROD) for the Approved Resource Management Plan (RMP) for the Cascade-Siskiyou National Monument (CSNM) located in Oregon/Washington (OR/WA) and California (CA). The Director signed the ROD on January 7, 2025, which constitutes the decision of the BLM and makes the Approved RMP effective immediately.

DATES: The Director signed the ROD on January 7, 2025.

ADDRESSES: The ROD/Approved RMP is available online at https://eplanning.blm.gov/eplanning-ui/project/2023675/510. Printed copies of the ROD/Approved RMP are available for public inspection at the BLM Medford District Office, 3040 Biddle Rd, Medford, OR 97504; the BLM Klamath Falls Field Office, 2795 Anderson Avenue, Bldg. #25, Klamath Falls, OR 97603; the Redding Field Office, 6640 Lockheed Drive, Redding, CA 96002-9003; or can be provided upon request by contacting Lauren Brown, Field Manager, Ashland Field Office, lpbrown@blm.gov or (541) 618-2200, or by contacting Joel Brumm, Assistant Monument Manager, jbrumm@blm.gov or (541) 618-2200.

A copy of the Protest Resolution Report is available at: https://www.blm.gov/programs/planning-and-nepa/public-participation/protest-resolution-reports.

FOR FURTHER INFORMATION CONTACT: Ms. Lauren Brown, Ashland Field Office, Field Manager, telephone (541) 618-2200; address 3040 Biddle Rd, Medford, OR 97504; email blm_csnm_rmp@blm.gov. Individuals in the United States who are deaf, deafblind, hard of hearing, or have a speech disability may dial 711 (TTY, TDD, or TeleBraille) to access telecommunications relay services for contacting Ms. Brown. Individuals outside the United States should use the relay services offered within their country to make international calls to the point-of-contact in the United States.

SUPPLEMENTARY INFORMATION: The CSNM boundary, as identified by Presidential Proclamation Nos. 7318 and 9564, constitutes the planning area for the Approved RMP. The planning area is 170,407 acres and includes lands within Jackson and Klamath Counties in Oregon, and Siskiyou County in California. The CSNM's decision area is the approximately 113,500 acres of BLM-administered lands within the planning area. While most of the BLM-administered lands are within the BLM Ashland and Klamath Falls Field Offices in Oregon, approximately 5,000 acres are located within the BLM Redding Field Office in California.

The Approved RMP will ensure that all legal mandates related to management of the congressionally designated National Conservation Lands (i.e., Soda Mountain Wilderness; the Jenny Creek and Spring Creek Wild and Scenic Rivers; the Applegate Trail, which is part of the California National Historic Trail; and the Pacific Crest National Scenic Trail), as well as lands included in President Obama's enlargement of the monument boundary, are fully addressed. In addition, the Approved RMP will update existing management plans to align with current BLM policies, thereby ensuring comprehensive management of the decision area.

The RMP's underlying purpose (40 CFR 1502.13) is to provide a management framework, including objectives and management direction, that guides the BLM's management of the decision area to protect and restore the resources, objects, and values for which the area was designated.

The Approved RMP emphasizes flexibility in planning-level direction but promotes a moderate level of active management for protection, maintenance, and restoration of CSNM resources, and sets some limitations on management actions and tools available. The Approved RMP does not carry forward any Areas of Critical Environmental Concern (ACEC) or Research Natural Areas. The BLM determined that special management attention would be provided by management direction in the plan from other designations and management areas that apply monument-wide and would adequately protect the resource or value. The BLM determined that the entire monument holds historic, cultural, fish and wildlife, and scenic values that meet the relevance and importance criteria for an ACEC. The Approved RMP is designed to protect the monument's objects of scientific and historic interest outlined in Presidential Proclamations Nos. 7318 and 9564, which would safeguard these resources or values.

In developing the Approved RMP, the analysis in the Proposed RMP/Final EIS demonstrated that it best meets the purpose and need for the action compared to the alternatives. The planning process included results from close collaboration with several agency partners, including regulatory agencies and Tribal Nations, and their support will be integral to effectively implementing the Approved RMP.

The BLM provided the Proposed RMP/Final EIS for public protest on October 11, 2024, for a 30-day protest period and received 11 protest letters. The BLM resolved all protests. Responses to protest issues will be compiled and documented in a Protest Resolution Report (see ADDRESSES). No changes to the Cascade-Siskiyou Resource Management Plan Proposed RMP/EIS were necessary as a result of protests.

Additionally, the BLM provided the Proposed RMP/Final EIS to the Governors of Oregon and California for a 30-day Governor's consistency review. The OR and CA Governor's office identified what they considered inconsistencies, and the BLM issued response letters that outlined explanations and justifications for how the BLM's proposed plan remains consistent with the concerns raised. No changes to the Cascade-Siskiyou National Monument Proposed RMP/EIS were necessary as a result of the Governors' consistency review.

(Authority: 40 CFR 1501.9, 40 CFR 1506.9, 43 CFR 1610.2, 43 CFR 1610.5)

Sharif Branham,
Assistant Director for Resources and Planning.

[FR Doc. 2025-00954 Filed 1-16-25; 8:45 am]

BILLING CODE 4331-24-P